DEPARTMENT OF ENERGY

Federal Energy Regulatory Commission

Combined Notice of Filings #1

Take notice that the Commission received the following electric rate filings:

Docket Numbers: ER23-2764-004.

Applicants: Northeastern Power & Gas, LLC.

Description: Tariff Amendment: Amendment to 12 to be effective 9/25/2023.

Filed Date: 5/3/24.

Accession Number: 20240503-5171.

Comment Date: 5 p.m. ET 5/24/24.

Docket Numbers: ER24-1420-001.

Applicants: Sierra Estrella Energy Storage LLC.

Description: Tariff Amendment: Response to Deficiency Letter to be effective 3/18/2024.

Filed Date: 5/3/24.

Accession Number: 20240503-5097.

Comment Date: 5 p.m. ET 5/24/24.

Docket Numbers: ER24-1421-001.

Applicants: Superstition Energy Storage LLC.

Description: Tariff Amendment: Superstition Energy Storage LLC submits tariff filing per 35.17(b): Response to Deficiency Letter to be effective 3/18/2024.

Filed Date: 5/3/24.

Accession Number: 20240503-5098.

Comment Date: 5 p.m. ET 5/24/24.

Docket Numbers: ER24-1933-000.

Applicants: AEP Texas Inc.

Description: § 205(d) Rate Filing: AEPTX-Ray Ranch Solar 1st Amended Generation Interconnection Agreement to be effective 4/9/2024.

Filed Date: 5/2/24

Accession Number: 20240502-5150.

Comment Date: 5 p.m. ET 5/23/24.

Docket Numbers: ER24-1934-000.

Applicants: PJM Interconnection, L.L.C.

Description: § 205(d) Rate Filing: Original NSA, Service Agreement No. 7239; AB2-135 to be effective 7/2/2024.

Filed Date: 5/2/24.

Accession Number: 20240502-5160.

Comment Date: 5 p.m. ET 5/23/24.

Docket Numbers: ER24-1935-000.

Applicants: Public Service Company of New Mexico.

Description: § 205(d) Rate Filing: 5th Revised NTUA/NOA Agreements to be effective 5/1/2024.

Filed Date: 5/2/24.

Accession Number: 20240502-5169.

Comment Date: 5 p.m. ET 5/23/24

Docket Numbers: ER24-1936-000.

Applicants: Southwest Power Pool, Inc.

Description: § 205(d) Rate Filing: Tariff Clean-Up Filing Effective 20240604 to be effective 6/4/2024.

Filed Date: 5/3/24.

Accession Number: 20240503-5058.

Comment Date: 5 p.m. ET 5/24/24.

Docket Numbers: ER24-1937-000.

Applicants: PJM Interconnection, L.L.C.

Description: § 205(d) Rate Filing: Original NSA, Service Agreement No. 7240; AC2-061 to be effective 7/3/2024.

Filed Date: 5/3/24

Accession Number: 20240503-5079

Comment Date: 5 p.m. ET 5/24/24.

Docket Numbers: ER24-1938-000.

Applicants: PJM Interconnection, L.L.C.

Description: § 205(d) Rate Filing: Amendment to IISA No. 5885 & ICSA No. 6969, AF1-123_AF1-124_AF1-125 to be effective 7/3/2024.

Filed Date: 5/3/24.

Accession Number: 20240503-5088.

Comment Date: 5 p.m. ET 5/24/24.

Docket Numbers: ER24-1939-000.

Applicants: Midcontinent Independent System Operator, Inc.

Description: § 205(d) Rate Filing: 2024-05-03_True Up of Module B 29.2 to be effective 7/11/2025.

Filed Date: 5/3/24.

Accession Number: 20240503-5101.

Comment Date: 5 p.m. ET 5/24/24

Docket Numbers: ER24-1940-000.

Applicants: Public Service Company of Colorado.

Description: § 205(d) Rate Filing: 2024-05-03 TSGT—COM—Boone-Huckleberry—733 to be effective 7/3/2024.

Filed Date: 5/3/24.

Accession Number: 20240503-5129.

Comment Date: 5 p.m. ET 5/24/24

Docket Numbers: ER24-1941-000.

Applicants: Liberty County Solar Project, LLC.

Description: Baseline eTariff Filing: Application for Market Based Rate Authority to be effective 5/4/2024.

Filed Date: 5/3/24.

Accession Number: 20240503-5139.

Comment Date: 5 p.m. ET 5/24/24.

Docket Numbers: ER24-1942-000.

Applicants: PJM Interconnection, L.L.C.

Description: § 205(d) Rate Filing: Ministerial Clean-Up Filing for Tariff, Schedule 12-Appx, Appx A & Appx C to be effective 1/1/2024.

Filed Date: 5/3/24.

Accession Number: 20240503-5144.

Comment Date: 5 p.m. ET 5/24/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 3, 2024.
Debbie-Anne A. Reese,
Acting Secretary.

[FR Doc. 2024-10171 Filed 5-8-24; 8:45 am]

BILLING CODE 6717-01-P